DEPARTMENT OF JUSTICE

[CPCLO Order No. 006-2017]

Privacy Act of 1974; System of Records

AGENCY: Department of Justice.

ACTION: Notice of a new system of records.

SUMMARY: Pursuant to the Privacy Act of 1974 and Office of Management and Budget (OMB) Circular No. A-108, notice is hereby given that the United States Department of Justice (Department or DOJ) proposes to establish a new Department-wide system of records titled, “Department of Justice Library Circulation System,” JUSTICE/DOJ-019.

DATES: This notice is applicable upon publication, subject to a 30-day period in which to comment on the routine uses, described below. Please submit any comments by September 22, 2017.

ADDRESSES: The public, OMB, and Congress are invited to submit any comments by mail to the United States Department of Justice, ATTN: Privacy Analyst, Office of Privacy and Civil Liberties, National Place Building, 1331 Pennsylvania Avenue NW., Suite 1000, Washington, DC 20530-0001, by facsimile at 202-307-0693, or by email at privacy.compliance@usdoj.gov. To ensure proper handling, please reference the above CPCLO Order No. on your correspondence.

FOR FURTHER INFORMATION CONTACT: Paul F. Cantwell, Supervisory Librarian, Library Staff, Justice Management Division, 601 D Street NW., Room 7530, Washington, DC 20530, facsimile: 202-514-2785.

SUPPLEMENTARY INFORMATION: The DOJ Libraries offer legal and general reference and research services, resource acquisition services, cataloging services, and digitization services. DOJ Libraries provide access to extensive legal and non-legal print collections and online legal resources. DOJ provides library services primarily to the DOJ Offices, Boards, and Divisions. The Main Library located in the Robert F. Kennedy Department of Justice Building contains broad collections of congressional, legal, and general research materials. In addition, branch libraries support the DOJ litigating Divisions and maintain special collections of particular interest to Division personnel.

The DOJ Library Circulation System allows the Department's Library Staff to track the circulation of materials held by the various libraries within the Department, ensuring that library materials can be located and made available to Department employees. The Library Staff will share information from the system pursuant to the requirements of the Privacy Act and, in the case of its routine uses, when the disclosure is compatible with the purpose for which the information was compiled.

In accordance with 5 U.S.C. 552a(r), the Department has provided a report to OMB and Congress on this new system of records.

Dated August 16, 2017.
Peter A. Winn,
Acting Chief Privacy and Civil Liberties Officer United States, Department of Justice.

JUSTICE/DOJ-019

SYSTEM NAME AND NUMBER:

Department of Justice Library Circulation System, JUSTICE/DOJ-019.

SECURITY CLASSIFICATION:

Unclassified.

SYSTEM LOCATION:

Records will be maintained electronically at one or more of the Department's data centers, including, but not limited to, the Justice Data Center, Rockville, MD 20854, and/or at one or more of the Department's Core Enterprise Facilities (CEF), including, but not limited to, the Department's CEF East, Clarksburg, WV 26306, or CEF West, Pocatello, ID 83201. Records within this system of records may be transferred to a Department-authorized cloud service provider, in which records would be limited to locations within the Continental United States.

Access to these electronic records includes all locations at which the DOJ Library Staff operates or at which DOJ Library Staff operations are supported, including the Robert F. Kennedy Department of Justice Building, 950 Pennsylvania Avenue NW., Room 5315, Washington, DC 20530. Some or all system information may also be duplicated at other locations where the Department has granted direct access to support DOJ Library Staff operations, system backup, emergency preparedness, and/or continuity of operations.

To determine the location of particular Library Circulation System records, contact the system manager, whose contact information is listed in the “SYSTEM MANAGER(S)” paragraph, below.

SYSTEM MANAGER(S):

Director, Library Staff, Justice Management Division, Robert F. Kennedy Department of Justice Building, 950 Pennsylvania Avenue NW., Room 5315, Washington, DC 20530.

AUTHORITY FOR MAINTENANCE OF THE SYSTEM:

5 U.S.C. 301, 44 U.S.C. 3101, and 28 CFR 0.77(h).

PURPOSE(S) OF THE SYSTEM:

The purpose of this system of records is to accurately track items currently checked out from the Department's libraries by registered users, and to ensure that all items are returned to the Department of Justice's libraries in a timely fashion and/or upon the departure from the Department of Justice by an employee who has borrowed materials from a Department library.

CATEGORIES OF INDIVIDUALS COVERED BY THE SYSTEM:

DOJ contractors and employees, including student interns and temporary employees, who register with the Department of Justice libraries to borrow materials from the libraries. Also covered are DOJ employees and contractors responsible for the operation and maintenance of the system.

CATEGORIES OF RECORDS IN THE SYSTEM:

Records include information on the library material(s) currently checked out by each individual. Specifically, the system tracks the name, office telephone number, email address, and office address of the borrower of each item currently checked out. The system also tracks the identification number or barcode associated with each work in the libraries' collections.

RECORD SOURCE CATEGORIES:

Records contained in this system of records are derived from information provided directly by the individual and from the DOJ Employee Directory Systems.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

(a) Where a record, either alone or in conjunction with other information, indicates a violation or potential violation of law—criminal, civil, or regulatory in nature—the relevant records may be referred to the appropriate Federal, state, local, territorial, tribal, or foreign law enforcement authority or other appropriate entity charged with the responsibility for investigating or prosecuting such violation or charged with enforcing or implementing such law.

(b) To any person or entity that the Department has reason to believe possesses information regarding a matter within the jurisdiction of the Department, to the extent deemed to be necessary by the Department in order to elicit such information or cooperation from the recipient for use in the performance of an authorized activity.

(c) In an appropriate proceeding before a court, grand jury, or administrative or adjudicative body, when the Department of Justice determines that the records are arguably relevant to the proceeding; or in an appropriate proceeding before an administrative or adjudicative body when the adjudicator determines the records to be relevant to the proceeding.

(d) To an actual or potential party to litigation or the party's authorized representative for the purpose of negotiation or discussion of such matters as settlement, plea bargaining, or in informal discovery proceedings.

(e) To the news media and the public, including disclosures pursuant to 28 CFR 50.2, unless it is determined that release of the specific information in the context of a particular case would constitute an unwarranted invasion of personal privacy.

(f) To contractors, grantees, experts, consultants, students, and others performing or working on a contract, service, grant, cooperative agreement, or other assignment for the Federal government, when necessary to accomplish an agency function related to this system of records.

(g) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(h) To appropriate officials and employees of a Federal agency or entity when the information is relevant to a decision concerning the hiring, appointment, or retention of an employee; the assignment, detail, or deployment of an employee; the issuance, renewal, suspension, or revocation of a security clearance; the execution of a security or suitability investigation; the letting of a contract; or the issuance of a grant or benefit.

(i) To a former employee of the Department for purposes of: Responding to an official inquiry by a Federal, state, or local government entity or professional licensing authority, in accordance with applicable Department regulations; or facilitating communications with a former employee that may be necessary for personnel-related or other official purposes where the Department requires information and/or consultation assistance from the former employee regarding a matter within that person's former area of responsibility.

(j) To a Member of Congress or staff acting upon the Member's behalf when the Member or staff requests the information on behalf of, and at the request of, the individual who is the subject of the record.

(k) To the National Archives and Records Administration for purposes of records management inspections conducted under the authority of 44 U.S.C. 2904 and 2906.

(l) To complainants and/or victims to the extent necessary to provide such persons with information and explanations concerning the progress and/or results of the investigation or case arising from the matters of which they complained and/or of which they were a victim.

(m) To appropriate agencies, entities, and persons when (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department efforts to respond to the suspected or confirmed breach or to prevent, minimize, or remedy such harm.

(n) To another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(o) To such recipients and under such circumstances and procedures as are mandated by Federal statute or treaty.

POLICIES AND PRACTICES FOR STORAGE OF RECORDS:

Records in this system are stored in electronic form. Records are stored securely in accordance with applicable executive orders, statutes, and agency implementing recommendations. Electronic records are stored in databases and/or on hard disks, removable storage devices, or other electronic media.

POLICIES AND PRACTICES FOR RETRIEVAL OF RECORDS:

Information is retrieved by an individual's identifying information (e.g., name or email address), or by identification of a particular item (e.g., a book maintained at the Department library) that an individual currently has checked out from the libraries' collections.

POLICIES AND PRACTICES FOR RETENTION AND DISPOSAL OF RECORDS:

Records are retained and destroyed in accordance with applicable schedules and procedures issued or approved by the National Archives and Records Administration. The circulation and use records of the Department-wide Library Circulation System are maintained for no longer than one year after borrowed items are returned. (DAA-GRS-2013-0002).

ADMINISTRATIVE, TECHNICAL, AND PHYSICAL SAFEGUARDS:

Information in this system is maintained in accordance with applicable laws, rules, and policies on protecting individual privacy. The servers storing electronic data and the backup tapes stored onsite are located in locked rooms with access limited to authorized agency personnel. Backup tapes stored offsite are maintained in accordance with a government contract that requires adherence to applicable laws, rules, and policies on protecting individual privacy. Internet connections are protected by multiple firewalls. Security personnel conduct periodic vulnerability scans using DOJ-approved software to ensure security compliance and security logs are enabled for all computers to assist in troubleshooting and forensics analysis during incident investigations. Users of individual computers can only gain access to the data by a valid user identification and password.

RECORDS ACCESS PROCEDURES:

All requests for access to records must be in writing and should be addressed to the Justice Management Division, ATTN: FOIA Contact, Robert F. Kennedy Department of Justice Building, Room 1111, 950 Pennsylvania Avenue NW., Washington, DC 20530, sent by facsimile to (202) 616-6695, or emailed to JMDFOIA@usdoj.gov. The envelope and letter should be clearly marked “Privacy Act Access Request.” The request must describe the records sought in sufficient detail to enable Department personnel to locate them with a reasonable amount of effort. The request must include a general description of the records sought and must include the requester's full name, current address, and date and place of birth. The request must be signed and either notarized or submitted under penalty of perjury.

Although no specific form is required, you may obtain forms for this purpose from the FOIA/Privacy Act Mail Referral Unit, Robert F. Kennedy Department of Justice Building, 950 Pennsylvania Avenue NW., Washington, DC 20530, or on the DOJ Web site at https://www.justice.gov/oip/oip-request.html. More information regarding the Department's procedures for accessing records in accordance with the Privacy Act can be found at 28 CFR part 16 subpart D, “Protection of Privacy and Access to Individual Records Under the Privacy Act of 1974.”

CONTESTING RECORDS PROCEDURES:

Individuals seeking to contest or amend records maintained in this system of records must direct their requests to the address indicated in the “RECORD ACCESS PROCEDURES” paragraph, above. All requests to contest or amend records must be in writing and the envelope and letter should be clearly marked “Privacy Act Amendment Request.” All requests must state clearly and concisely what record is being contested, the reasons for contesting it, and the proposed amendment to the record. More information regarding the Department's procedures for amending or contesting records in accordance with the Privacy Act can be found at 28 CFR 16.46, “Requests for Amendment or Correction of Records.”

NOTIFICATION PROCEDURES:

Individuals may be notified if a record in this system of records pertains to them when the individuals request information utilizing the same procedures as those identified in the “RECORD ACCESS PROCEDURES” paragraph, above.

EXEMPTIONS PROMULGATED FOR THE SYSTEM:

None.

HISTORY:

None.

[FR Doc. 2017-17785 Filed 8-22-17; 8:45 am]

BILLING CODE 4410-NW-P